DEPARTMENT OF EDUCATION

[Docket No.: ED-2014-ICCD-0142]

Agency Information Collection Activities; Submission to the Office of Management and Budget for Review and Approval; Comment Request; Impacts of a Detailed Checklist on Formative Feedback to Teachers

AGENCY: Institute of Education Sciences/National Center for Education Statistics (IES), Department of Education (ED).

ACTION: Notice.

SUMMARY: In accordance with the Paperwork Reduction Act of 1995 (44 U.S.C. 3501 et seq.), ED is proposing a new information collection.

DATES: Interested persons are invited to submit comments on or before January 23, 2015.

ADDRESSES: Comments submitted in response to this notice should be submitted electronically through the Federal eRulemaking Portal at http://www.regulations.gov by selecting Docket ID number ED-2014-ICCD-0142 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E103, Washington, DC 20202.

FOR FURTHER INFORMATION CONTACT: For specific questions related to collection activities, please contact Christopher Boccanfusco, 202-219-1674.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impacts of a Detailed Checklist on Formative Feedback to Teachers.

OMB Control Number: 1850—NEW.

Type of Review: A new information collection.

Respondents/Affected Public: Individuals or Households.

Total Estimated Number of Annual Responses: 10,788.

Total Estimated Number of Annual Burden Hours: 1,784.

Abstract: The Department of Education, in consultation with SEDL, is planning a clustered randomized evaluation in New Mexico to test the effectiveness of materials intended to improve the feedback that principals provide in one-on-one conferences to their teachers about their classroom instruction. New Mexico Public Education Department (NM PED) staff has identified the topic of principal feedback to teachers as an area where New Mexico needs assistance. It has limited resources and time to focus on the post-observation conference step in the teacher evaluation cycle. This impact study will examine whether an enhanced feedback guide relative to business-as-usual guidance to principals and teachers improves the structure and content of the principal-teacher feedback conversation, improves quality of teacher instruction as measured by subsequent formal observation ratings, and increases student achievement and state standardized tests.

Dated: December 19, 2014.
Kate Mullan,
Acting Director, Information Collection Clearance Division, Privacy, Information and Records Management Services, Office of Management.

[FR Doc. 2014-30153 Filed 12-23-14; 8:45 am]

BILLING CODE 4000-01-P